ENVIRONMENTAL PROTECTION AGENCY

[EPA-HQ-OPP-2024-0058; FRL-11681-07-OCSPP]

Pesticide Product Registration; Receipt of Applications for New Active Ingredients (July 2024)

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before September 23, 2024.

ADDRESSES: Submit your comments, identified by docket identification (ID) number EPA-HQ-OPP-2024-0058, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Madison H. Le, Biopesticides and Pollution Prevention Division (BPPD) (7511M), main telephone number: (202) 566-1400, email address: BPPDFRNotices@epa.gov; Anita Pease, Antimicrobials Division (AD) (7510P), main telephone number: (202) 566-0736; email address: ADFRNotices@epa.gov. The mailing address for each contact person is Office of Pesticide Programs, Environmental Protection Agency, 1200 Pennsylvania Ave. NW, Washington, DC 20460-0001. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (https://www2.epa.gov/pesticide-registration/public-participation-process-registration-actions).

Notice of Receipt—New Active Ingredients

File Symbol: 464-IRLL and 464-IRLU. Docket ID number: EPA-HQ-OPP-2024-0213. Applicant: LANXESS CORPORATION, 111 RIDC Park West Drive, Pittsburgh, PA 15275-1112. Product name: Bioban PH 100 Antimicrobial and Bioban PH 100 Technical. Active ingredient: Antimicrobial—2-Phenoxyethanol at 99.8%. Proposed use: In-container preservative for the control of bacteria in industrial and household consumer products. Contact: AD.

File Symbol: 94201-E. Docket ID number: EPA-HQ-OPP-2024-0340. Applicant: MBFi LLC, 11125 North Ambassador Drive, Suite 120, Kansas City, MO 64153. Product name: Trichoderma asperellum DSM 33649 Technical. Active ingredient: Fungicide and nematicide—Trichoderma asperellum DSM33649 at 100%. Proposed use: For manufacturing use only to formulate end-use products. Contact: BPPD.

File Symbol: 94201-G. Docket ID number: EPA-HQ-OPP-2024-0340. Applicant: MBFi LLC, 11125 North Ambassador Drive, Suite 120, Kansas City, MO 64153. Product name: Trillum DS. Active ingredient: Fungicide and nematicide—Trichoderma asperellum DSM33649 at 1%. Proposed use: For control of soil-borne fungal pathogens and nematodes on outdoor agricultural and greenhouse crops, ornamental plants, and turf. Contact: BPPD.

File Symbol: 94201-U. Docket ID number: EPA-HQ-OPP-2024-0340. Applicant: MBFi LLC, 11125 North Ambassador Drive, Suite 120, Kansas City, MO 64153. Product name: Trillum WP. Active ingredient: Fungicide and nematicide—Trichoderma asperellum DSM33649 at 1%. Proposed use: For control of soil-borne fungal pathogens and nematodes on outdoor agricultural and greenhouse crops, ornamental plants, and turf. Contact: BPPD.

File Symbol: 102839-R. Docket ID number: EPA-HQ-OPP-2024-0329. Applicant: EcoPhage LTD., 3 Pinchas Sapir St., Ness Ziona, Israel 7403626 (c/o Spring Regulatory Sciences, 6620 Cypresswood Dr., Suite 250, Spring, TX 77379). Product name: Golden—Eco 1000. Active ingredients: Bactericides—Bacteriophage active against Xanthomonas campestris pv. Vesicatoria EcoPhage at 0.000001716% and Bacteriophage active against Pseudomonas syringae pv. Tomato EcoPhage at 0.000000624%. Proposed use: To protect tomatoes and peppers from bacterial spot (Xanthomonas campestris pv. vesicatoria) and bacterial speck (Pseudomonas syringae pv. tomato). Contact: BPPD.

Authority: 7 U.S.C. 136 et seq.

Dated: August 19, 2024.
Kimberly Smith,
Acting Director, Information Technology and Resources Management Division, Office of Program Support.

[FR Doc. 2024-18966 Filed 8-22-24; 8:45 am]

BILLING CODE 6560-50-P